DEPARTMENT OF COMMERCE

Foreign-Trade Zones Board

(Docket 7-2008)

Foreign-Trade Zone 227 -- Durant, Oklahoma; Application for Expansion

An application has been submitted to the Foreign-Trade Zones (FTZ) Board (the Board) by Rural Enterprises of Oklahoma, Inc., grantee of FTZ 227, requesting authority to expand its existing zone to include two new sites in Carter County, Oklahoma, adjacent to the Dallas/Fort Worth Customs and Border Protection port of entry. The application was submitted pursuant to the provisions of the Foreign-Trade Zones Act, as amended (19 U.S.C. 81a-81u), and the regulations of the Board (15 CFR part 400). It was formally filed on February 8, 2008.

FTZ 227 was approved on January 27, 1998 (Board Order 947, 63 FR 5929, 2/5/98). The zone project currently consists of 30 acres within the 280-acre Texoma Industrial Park located near U.S. Highway 69/75 in Durant.

The applicant is now requesting authority to expand the zone to include two sites in Carter County: Proposed Site 2 (2,790 acres)—Ardmore Industrial Airpark located on Highway 53 in Springer; and, Proposed Site 3 (122 acres)—Westport Industrial Park located west of Interstate 35 between Prairie Valley Road and 12th Avenue NW in Ardmore. Proposed Site 2 is owned by the Ardmore Development Authority, City of Ardmore, Sovereign Oklahoma Development L.L.C. and Highway 53, L.L.C. Proposed Site 3 is owned by Ardmore Development Authority, JVS, Inc., Premium Beers of Oklahoma, L.L.C., Longhorn Scooters, Inc., KRC Investments, LLC, and Sooner Lift, Inc. The sites will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is April 28, 2008. Rebuttal comments in response to material submitted during the foregoing period may be submitted during the subsequent 15-day period to May 12, 2008.

A copy of the application and accompanying exhibits will be available for public inspection at each of the following locations: Office of Rural Enterprises of Oklahoma, Inc., 2912 Enterprise Boulevard, Durant, OK 74701; and, Office of the Executive Secretary, Foreign-Trade Zones Board, Room 2111, U.S. Department of Commerce, 1401 Constitution Avenue, NW, Washington, DC 20230.

For further information, contact Camille Evans at Camille_Evans@ita.doc.gov or at (202) 482-2350.

Dated: February 11, 2008.
Andrew McGilvray,
Executive Secretary.

[FR Doc. E8-3707 Filed 2-26-08; 8:45 am]

BILLING CODE 3510-DS-S